DEPARTMENT OF HOMELAND SECURITY

Federal Emergency Management Agency

44 CFR Part 65

[Docket No. FEMA—B-7785]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona:
Coconino | Unincorporated areas of Coconino County (07-09-1875P) | April 23, 2008; April 30, 2008; Arizona Daily Sun | The Honorable Deb Hill, Chairman, Coconino County, Board of Supervisors, 219 East Cherry Avenue, Flagstaff, AZ 86001 | April 15, 2008 | 040019
Maricopa | City of Peoria (07-09-1919P) | May 1, 2008; May 7, 2008; Daily News-Sun | The Honorable Bob Barrett, Mayor, City of Peoria, 8401 West Monroe Street, Peoria, AZ 85345 | September 4, 2008 | 040050
Yavapai | Town of Prescott Valley (07-09-1655P) | April 21, 2008; April 28, 2008; Prescott Daily Courier | The Honorable Harvey C. Skoog, Mayor, Town of Prescott Valley, 7501 East Civic Circle, Prescott Valley, AZ 86314 | April 14, 2008 | 040121
Yavapai | Unincorporated areas of Yavapai County (07-09-1655P) | April 21, 2008; April 28, 2008; Prescott Daily Courier | The Honorable Chip Davis, Chairman, Yavapai County Board of Supervisors, 1015 Fair Street, Prescott, AZ 86305 | April 14, 2008 | 040093
California: San Diego | City of Vista (08-09-0596P) | May 1, 2008; May 8, 2008; City of Vista | The Honorable Morris C. Vance, Mayor, City of Vista, 600 Eucalyptus Avenue, Building One, Vista, CA 92084 | September 5, 2008 | 060297
Colorado: El Paso | City of Colorado Springs (08-08-0212P) | April 30, 2008; May 7, 2008; El Paso County News | The Honorable Lionel Rivera, Mayor, City of Colorado Springs, P.O. Box 1575, Colorado Springs, CO 80901 | September 4, 2008 | 080060
Connecticut: New Haven | City of New Haven (07-01-1096P) | April 24, 2008; May 1, 2008; New Haven Register | The Honorable John DeStefano, Jr., Mayor, City of New Haven, 165 Church Street, New Haven, CT 06510 | April 17, 2008 | 090084
Georgia:
Camden | Unincorporated areas of Camden County (08-04-1081P) | April 18, 2008; April 25, 2008; Tribune & Georgian | The Honorable Preston Rhodes, Chairman, Camden County, Board of Commissioners, P.O. Box 248, White Oak, GA 31568 | August 25, 2008 | 130262
Camden | City of Kingsland (08-04-1081P) | April 18, 2008; April 25, 2008; Tribune & Georgian | The Honorable Kenneth Smith, Mayor, City of Kingsland, P.O. Box 250, Kingsland, GA 31548 | August 25, 2008 | 130238
Kentucky: Hardin | Unincorporated areas of Hardin County (08-04-1717P) | May 2, 2008; May 9, 2008; The News-Enterprise | The Honorable Harry L. Berry, Hardin County Judge, P.O. Box 568, Elizabethtown, KY 42702 | September 8, 2008 | 210094
Minnesota:
Anoka | City of Blaine (07-05-4703P) | May 2, 2008; May 9, 2008; Spring Lake Park Life | The Honorable Thomas Ryan, Mayor, City of Blaine, 10801 Town Square Drive, Northeast, Blaine, MN 55449 | September 8, 2008 | 270007
Olmsted | Unincorporated areas of Olmsted County (07-05-4071P) | April 10, 2008; April 17, 2008; Post Bulletin | The Honorable Ken Brown, Commissioner, Olmsted County Board of Commissioners, 151 Fourth Street Southeast, Rochester, MN 55904 | August 18, 2008 | 270626
Olmsted | City of Rochester (07-05-4071P) | April 10, 2008; April 17, 2008; Post Bulletin | The Honorable Ardell F. Brede, Mayor, City of Rochester, 201 Fourth Street, Southeast, Room 281, Rochester, MN 55904 | August 18, 2008 | 275246
Mississippi: DeSoto | City of Olive Branch (08-04-0546P) | May 8, 2008; May 15, 2008; DeSoto Times Today | The Honorable Samuel P. Rikard, Mayor, City of Olive Branch, 9200 Pigeon Roost Road, Olive Branch, MS 38654 | April 30, 2008 | 280286
North Carolina:
Forsyth | City of Winston-Salem (07-04-4554P) | February 27, 2008; March 5, 2008; Winston-Salem Journal | The Honorable Allen Joines, Mayor, City of Winston-Salem, 101 North Main Street, Winston-Salem, North Carolina 27101 | July 3, 2008 | 375360
Wake | Town of Cary (07-04-2347P) | April 23, 2008; April 30, 2008; The Cary News | The Honorable Ernest F. McAlister, Mayor, Town of Cary, P.O. Box 8005, Cary, North Carolina 27512-8005 | April 11, 2008 | 370238
Watauga | Town of Blowing Rock (07-04-6273P) | April 24, 2008; May 1, 2008; The Blowing Rocket | The Honorable James B. Lawrence, Mayor, Town of Blowing Rock, P.O. Box 47, Blowing Rock, North Carolina 27605 | April 15, 2008 | 370252
Ohio: Warren | Village of Monroe (07-05-2593P) | April 10, 2008; April 17, 2008; Pulse Journal | The Honorable Robert Routson, Mayor, City of Monroe, P.O. Box 330, Monroe, OH 45050-0330 | August 18, 2008 | 390042
Texas:
Brazos | City of College Station (07-06-2365P) | April 7, 2008; April 10, 2008; Bryan College Station Eagle | The Honorable Ben White, Mayor, City of College Station, 1101 Texas Avenue, College Station, TX 77840 | April 25, 2008 | 480083
Denton | City of Roanoke (07-06-2276P) | May 1, 2008; May 8, 2008; Denton County Chronicle | The Honorable Carl E. Gierisch, Jr., Mayor, City of Roanoke, 108 South Oak Street, Roanoke, TX 76262 | April 28, 2008 | 480785
Travis | City of Austin (08-06-0658P) | May 1, 2008; May 8, 2008; Austin American Statesman | The Honorable Will Wynn, Mayor, City of Austin, P.O. Box 1088, Austin, TX 78767 | September 5, 2008 | 480624
Wisconsin: Dane | Unincorporated areas of Dane County (08-05-1758P) | May 1, 2008; May 8, 2008; Oregon Observer | The Honorable Kathleen Falk, Dane County Executive, 210 Martin Luther King Jr. Boulevard, Room 421, Madison, WI 53703 | September 5, 2008 | 550077

(Catalog of Federal Domestic Assistance No. 97.022, “Flood Insurance.”)

Dated: May 28, 2008.
David I. Maurstad,
Federal Insurance Administrator of the National Flood Insurance Program, Department of Homeland Security, Federal Emergency Management Agency.

[FR Doc. E8-13209 Filed 6-11-08; 8:45 am]

BILLING CODE 9110-12-P